DEPARTMENT OF COMMERCE

International Trade Administration

(A-357-802, A-583-803)

Light-Walled Welded Rectangular Carbon Steel Tubing from Argentina and Taiwan; Final Results of the Expedited Sunset Reviews of the Antidumping Duty Orders

AGENCY: Import Administration, International Trade Administration, Department of Commerce.

SUMMARY: On July 1, 2005, the Department of Commerce (the Department) initiated the second sunset reviews of the antidumping duty orders on light-walled welded rectangular carbon steel tubing from Argentina and Taiwan pursuant to section 751(c) of the Tariff Act of 1930, as amended (the Act). On the basis of a notice of intent to participate and adequate substantive responses filed on behalf of domestic interested parties and no responses from respondent interested parties, the Department conducted expedited (120-day) sunset reviews. See section 751(c)(3)(B) of the Act. As a result of these sunset reviews, the Department finds that revocation of the antidumping duty orders would lead (or likely lead) to continuation or recurrence of dumping at the levels listed in the “Final Results of Reviews” section below.

EFFECTIVE DATE: November 7, 2005.

FOR FURTHER INFORMATION CONTACT: Zev Primor or Edythe Artman, AD/CVD Enforcement 5, Import Administration, International Trade Administration, U.S. Department of Commerce, 14th Street & Constitution Avenue, NW, Washington, DC 20230; telephone: (202) 482-4114 or (202) 482-3931.

SUPPLEMENTARY INFORMATION:

Background:

On July 1, 2005, the Department initiated the second sunset reviews of the antidumping duty orders on light-walled welded rectangular carbon steel tubing from Argentina and Taiwan pursuant to section 751(c) of the Act. See Initiation of Five-year (“Sunset”) Reviews, 70 FR 38101 (July 1, 2005). The Department received a notice of intent to participate from Allied Tube and Conduit, Hannibal Industries, Leavitt Tube Company, Northwest Pipe Company, Searing Industries, and Western Tube and Conduit (collectively the domestic interested parties) within the deadline specified in 19 CFR 351.218(d)(1)(i) pertaining to sunset reviews. The domestic interested parties claimed interested-party status under section 771(9)(C) of the Act as manufacturers of a domestic like product in the United States. We received complete substantive responses from the domestic interested parties within the 30-day deadline specified in 19 CFR 351.218(d)(3)(i). We received no responses from the respondent interested parties. As a result, pursuant to section 751(c)(3)(B) of the Act and 19 CFR 351.218(e)(1)(ii)(C)(2), the Department has conducted expedited (120-day) sunset reviews of these orders.

Scope of the Orders:

The product covered by these orders is light-walled welded carbon steel pipes and tubes of rectangular (including square) cross-section having a wall thickness of less than 0.156 inch. This merchandise is classified under item number 7306.60.50.00 of the Harmonized Tariff Schedule of the United States. It was formerly classified under item number 610.4928 of the Tariff Schedules of the United States.

Analysis of Comments Received:

All issues raised in these reviews are addressed in the Issues and Decision Memorandum from Stephen J. Claeys, Deputy Assistant Secretary for Import Administration, to Joseph A. Spetrini, Acting Assistant Secretary for Import Administration, dated October 31, 2005, which is hereby adopted by this notice. The issues discussed in the Issues and Decision Memorandum include the likelihood of continuation or recurrence of dumping and the magnitude of the margins likely to prevail if the orders were to be revoked. Parties can find a complete discussion of all issues raised in these reviews and the corresponding recommendations in this public memorandum which is on file in room B-099 of the main Commerce building.

In addition, a complete version of the Issues and Decision Memorandum can be accessed directly on the Web at http://ia.ita.doc.gov/frn. The paper copy and electronic version of the Issues and Decision Memorandum are identical in content.

Final Results of Reviews:

We determine that revocation of the antidumping duty orders on light-walled welded rectangular carbon steel tubing from Argentina and Taiwan would be likely to lead to continuation or recurrence of dumping at the following weighted-average percentage margins:

Manufacturers/Exporters/Producers | Weighted-Average Margin (percent)
Argentina
All Manufacturers/Producers/Exporters | 56.26
Taiwan
Ornatube Enterprise | 5.51
Vulcan Industrial Corp. | 40.97
Yieh Hsing Industries, Ltd. | 40.97
All Other Manufacturers/Producers/Exporters | 29.15

This notice also serves as the only reminder to parties subject to administrative protective orders (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing these results and notice in accordance with sections 751(c), 752, and 777(i)(1) of the Act.

Dated: October 31, 2005.
Joseph A. Spetrini,
Acting Assistant Secretary for Import Administration.

[FR Doc. 05-22152 Filed 11-4-05; 8:45 am]

BILLING CODE 3510-DS-S